FEDERAL COMMUNICATIONS COMMISSION

47 CFR Part 73

[DA 02-1873; MB Docket No. 02-208; RM-10515]

Radio Broadcasting Services; Buttonwillow, CA

AGENCY: Federal Communications Commission.

ACTION: Proposed rule.

SUMMARY: This document requests comments on a petition filed by Dangerous Broadcasting, L.P., II proposing the allotment of Channel 265A at Buttonwillow, California, as that community's first local FM service. The coordinates for Channel 265A at Buttonwillow are 35-23-56 and 119-29-52. There is a site restriction 2.5 kilometers (1.6 miles) west of the community to avoid a short-spacing to a license site of Station KGFM, Channel 268B, Bakersfield, CA.

DATES: Comments must be filed on or before September 23, 2002, and reply comments on or before October 8, 2002.

ADDRESSES: Federal Communications Commission, 445 Twelfth Street, SW., Washington, DC 20554. In addition to filing comments with the FCC, interested parties should serve the petitioner, as follows: Dangerous Broadcasting, L.P., II, c/o John J. McVeigh, Attorney at Law, 12101 Blue Paper Trail, Columbia, Maryland, 21044-2787.

FOR FURTHER INFORMATION CONTACT: Rolanda F. Smith, Media Bureau, (202) 418-2180.

SUPPLEMENTARY INFORMATION: This is a summary of the Commission's Notice of Proposed Rule Making, MB Docket No. 02-208, adopted July 24 , 2002, and released August 2, 2002. The full text of this Commission decision is available for inspection and copying during normal business hours in the Commission's Reference Center, 445 Twelfth Street, SW., Washington, DC 20554 (CY-A257). The complete text of this decision may also be purchased from the Commission's duplicating contractor, Qualex International Portals II, 445 12th Street, SW., Room CY-B402, Washington, DC 20554, telephone 202-863-2893, facsimile 202-863-2898, or via e-mail qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1.The authority citation for part 73 continues to read as follows:

Authority: 47 U.S.C. 154, 303, 334 and 336.

§ 73.202 [Amended]

2. Section 73.202(b), the Table of FM Allotments under California, is amended by adding Buttonwillow, Channel 265A.

Federal Communications Commission.
John A. Karousos,
Assistant Chief, Audio Division, Media Bureau.

[FR Doc. 02-20598 Filed 8-13-02; 8:45 am]

BILLING CODE 6712-01-P